DEPARTMENT OF THE INTERIOR

National Park Service

[NPS-WASO-NAGPRA-NPS0038734; PPWOCRADN0-PCU00RP14.R50000]

Notice of Intended Disposition: U.S. Department of the Interior, National Park Service, Timucuan Ecological and Historic Preserve, Jacksonville, FL

AGENCY: National Park Service, Interior.

ACTION: Notice.

SUMMARY: In accordance with the Native American Graves Protection and Repatriation Act (NAGPRA), the U.S. Department of the Interior, National Park Service, Timucuan Ecological and Historic Preserve (TIMU) intends to carry out the disposition of human remains removed from Federal or Tribal lands to the lineal descendants, Indian Tribe, or Native Hawaiian organization with priority for disposition in this notice.

DATES: Disposition of the human remains in this notice may occur on or after October 21, 2024. If no claim for disposition is received by September 22, 2025, the human remains in this notice will become unclaimed human remains.

ADDRESSES: Chris Hughes, Superintendent, Timucuan Ecological and Historic Preserve, 13165 Mount Pleasant Road, Jacksonville, FL 32225, telephone (904)-805-7510, email chris_hughes@nps.gov.

SUPPLEMENTARY INFORMATION: This notice is published as part of the National Park Service's administrative responsibilities under NAGPRA. The determinations in this notice are the sole responsibility of the Superintendent, TIMU, and additional information on the human remains in this notice, including the results of consultation, can be found in the related records.

Abstract of Information Available

Based on the information available, human remains representing, at least, three individuals have been reasonably identified. No associated funerary objects are present. Human remains were discovered eroding out of the Green Trail in Duval County, FL on June 21st 2023. National Park Service archeologists opened a small excavation unit and additional human remains were discovered. Artifacts removed from the site were determined to be historic and not associated with the burials. The remains of the ancestors were collected and transferred to the Southeast Archeology Center (SEAC) in Tallahassee, FL to be housed.

Determinations

TIMU has determined that:

• The human remains described in this notice represent the physical remains of three individuals of Native American ancestry.

• The Miccosukee Tribe of Indians; Seminole Tribe of Florida; and The Seminole Nation of Oklahoma have priority for disposition of the human remains described in this notice.

Claims for Disposition

Written claims for disposition of the human remains in this notice must be sent to the appropriate official identified in this notice under ADDRESSES. If no claim for disposition is received by September 22, 2025, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after October 21, 2024. If competing claims for disposition are received, TIMU must determine the most appropriate claimant prior to disposition. Requests for joint disposition of the human remains are considered a single request and not competing requests. TIMU is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: September 12, 2024.
Melanie O'Brien,
Manager, National NAGPRA Program.

[FR Doc. 2024-21537 Filed 9-19-24; 8:45 am]

BILLING CODE 4312-52-P